DEPARTMENT OF TRANSPORTATION

National Highway Traffic Safety Administration

[Docket No. NHTSA-2014-0114]

National Emergency Medical Services Advisory Council (NEMSAC) and Federal Interagency Committee on Emergency Medical Services (FICEMS); Notice of Federal Advisory Committee Meeting

AGENCY: National Highway Traffic Safety Administration (NHTSA), U.S. Department of Transportation (DOT).

ACTION: Meeting Notice—National Emergency Medical Services Advisory Council and Federal Interagency Committee on Emergency Medical Services.

SUMMARY: The NHTSA announces meetings of NEMSAC and FICEMS to be held consecutively in the Metropolitan Washington, DC, area. This notice announces the date, time, and location of the meetings, which will be open to the public, as well as opportunities for public input to the NEMSAC and FICEMS. The purpose of NEMSAC, a nationally recognized council of emergency medical services representatives and consumers, is to advise and consult with DOT and the FICEMS on matters relating to emergency medical services (EMS). The purpose of FICEMS is to ensure coordination among Federal agencies supporting EMS and 9-1-1 systems.

DATES: The NEMSAC meeting will be held on December 3, 2014, from 8 a.m. to 5:00 p.m. EST, and on December 4, 2014, from 8 a.m. to 11:30 a.m. EST. A public comment period will take place on December 3, 2014 at approximately 1:15 p.m. EST and December 4, 2014 at approximately 10 a.m. EST. Written comments for the NEMSAC from the public must be received no later than December 1, 2014.

The FICEMS meeting will be held on December 4, 2014, from 1 p.m. to 4 p.m. EST. A public comment period will take place on December 4, 2014, at approximately 3:30 p.m. EST. Written comments for FICEMS from the public must be received no later than December 1, 2014.

ADDRESSES: The meetings will both be held at the Performance Institute Conference Center on the third floor of 901 New York Avenue NW., Washington, DC 20001.

FOR FURTHER INFORMATION CONTACT: Drew Dawson, Director, U.S. Department of Transportation, National Highway Traffic Safety Administration, Office of Emergency Medical Services, 1200 New Jersey Avenue SE., NTI-140, Washington, DC 20590, telephone 202-366-9966; email Drew.Dawson@dot.gov.

SUPPLEMENTARY INFORMATION: Notice of these meetings is given under the Federal Advisory Committee Act, Public Law 92-463, as amended (5 U.S.C. App.). The NEMSAC is authorized under Section 31108 of the Moving Ahead with Progress in the 21st Century Act of 2012. The FICEMS is authorized under Section 10202 of the Safe, Accountable, Flexible, Efficient Transportation Equity Act: A Legacy for Users (SAFETEA-LU).

Tentative Agenda of the National EMS Advisory Council Meeting

The tentative NEMSAC agenda includes the following:

Wednesday, December 3, 2014 (8 a.m. to 5 p.m. EST)

(1) Opening Remarks

(2) Disclosure of Conflicts of Interests by Members

(3) Reports and Updates from the Departments of Transportation, Homeland Security, and Health & Human Services

(4) Presentation and Discussion on Federal Interagency EMS Preparedness for the Response to Ebola in the United States

(5) Presentation, Discussion and Possible Adoption of Reports and Recommendations from the following NEMSAC Workgroups:

a. Patient Protection and Affordable Care Act

b. Revision of the EMS Education Agenda for the Future

c. FICEMS Strategic Planning Process

(6) Other Business of the Council

(7) Public Comment Period (1:15 p.m. to 2:00 p.m. EST)

(8) Workgroup Breakout Sessions (3 p.m. to 5 p.m. EST)

Thursday, December 4, 2014 (8 a.m. to 11:30 a.m. EST)

(1) Unfinished Business/Continued Discussion from Previous Day

(2) Public Comment Period (Approximately 10 a.m. EST)

(3) Possible Adoption of Recommendations to DOT and FICEMS

(4) Next Steps and Adjourn

On Wednesday, December 3, 2014, from 2:30 p.m. to 5 p.m. EST, the NEMSAC workgroups will meet in breakout sessions at the same location. These sessions are open for public attendance, but their agendas do not accommodate public comment.

Tentative Agenda of the Federal Interagency Committee on EMS Meeting

Thursday, December 4, 2014 (1 p.m. to 4 p.m. EST)

(1) Welcome, Introductions, Opening Remarks

(2) Review and Approval of Executive Summary of June 19, 2014 Meeting

(3) National EMS Advisory Council (NEMSAC) Report

(4) Strategic Planning Implementation

(5) Discussion of the EMS Agenda for the Future

(6) Technical Working Group (TWG) Committee Reports. This includes the Preparedness Committee, which will provide an update on interagency Ebola coordination and the Data Standardization Committee, which will provide a briefing on the National EMS Information System (NEMSIS).

(7) Presentation of New Initiative to Develop State and Local EMS Performance Measures

(8) Election of Chair and Vice-Chair for Calendar Year 2015

(9) Other FICEMS Business

(10) Public Comment Period (approximately 3:30 p.m. EST)

(11) Next Steps and Adjourn

Registration Information: These meetings will be open to the public; however, pre-registration is requested. Individuals wishing to attend must register online at https://events.signup4.com/NEMSACandFICEMSJointMtg2014 no later than November 28, 2014. For assistance with registration, please contact Noah Smith at Noah.Smith@dot.gov or 202-366-5030. There will not be a teleconference option for these meetings.

Public Comment: Members of the public are encouraged to comment directly to the NEMSAC and FICEMS during designated public comment periods. In order to allow as many people as possible to speak, speakers are requested to limit their remarks to 5 minutes. Written comments from members of the public will be distributed to NEMSAC or FICEMS members at the meeting and should reach the NHTSA Office of EMS no later than December 1, 2014. Written comments may be submitted by either one of the following methods: (1) You may submit comments by email: nemsac@dot.gov or ficems@dot.gov or (2) you may submit comments by fax: (202) 366-7149.

A final agenda as well as meeting materials will be available to the public online through www.EMS.gov on or before November 28, 2014.

Jeffrey P. Michael,
Associate Administrator for Research and Program Development.

[FR Doc. 2014-27194 Filed 11-14-14; 8:45 am]

BILLING CODE 4910-59-P